DEPARTMENT OF AGRICULTURE

Forest Service

Information Collection; Request for Comment; National Visitor Use Monitoring

AGENCY: Forest Service, USDA.

ACTION: Notice; request for comment.

SUMMARY: In accordance with the Paperwork Reduction Act of 1995, the Forest Service is seeking comments from all interested individuals and organizations on the extension of a currently approved information collection, National Visitor Use Monitoring (0596-0110).

DATES: Comments must be received in writing on or before October 19, 2020 to be assured of consideration. Comments received after that date will be considered to the extent practicable.

ADDRESSES: Comments concerning this notice should be addressed to Dr. Donald B.K. English, Recreation, Heritage, and Volunteer Resources, Mailstop 1125, Forest Service, USDA, 1400 Independence Ave. SW, Washington, DC 20250-1125.

Comments also may be submitted via facsimile to 202-205-1145 or by email to: don.english@usda.gov. The public may request copies of comments received by emailing Dr. English.

FOR FURTHER INFORMATION CONTACT: Dr. Donald B.K. English, Recreation, Heritage, and Volunteer Resources staff, at 202-205-9595. Individuals who use telecommunication devices for the deaf (TDD) may call the Federal Relay Service (FRS) at 1-800-877-8339, between 8 a.m. and 8 p.m. Eastern Standard Time, Monday through Friday.

SUPPLEMENTARY INFORMATION:

Title: National Visitor Use Monitoring.

OMB Number: 0596-0110.

Expiration Date of Approval: August 31, 2017.

Type of Request: Extension with revision.

Abstract: The Government Performance and Results Act of 1993 requires that Federal agencies establish measurable goals and monitor their success at meeting those goals. Two of the items the Forest Service must measure are: (1) The number of visits that occur on the National Forest System lands for recreation and other purposes, and (2) the views and satisfaction levels of recreational visitors to National Forest System lands about the services, facilities, and settings. The Agency receives requests for this kind of information from a variety of organizations, including Congressional staffs, newspapers, magazines, and recreational trade organizations.

The data from this collection provides vital information for strategic planning efforts, decisions regarding allocation of resources, and revisions of land and resource management plans for national forests. It provides managers with reliable estimates of the number of recreational visitors to a national forest, activities of those visitors (including outdoor physical activities), customer satisfaction, and visitor values. The knowledge gained from this effort helps identify recreational markets as well as the economic contributions visitors' spending has on economic areas around forest lands. For the Forest Service, the collection is designed for a five-year cycle of coverage across all national forests. Conducting the collection less frequently puts information updates out of cycle with forest planning and other data preparation and reporting activities.

At recreation sites or access points, agency personnel or contractors will conduct onsite interviews of visitors as they complete their visit. Interviewers will ask about the purpose and length of the visit, the trip origin, activities, annual visitation rates, trip-related spending patterns, use of recreation facilities, satisfaction with agency services and facilities, and the composition of the visiting party. Primary analysis of the information for the Forest Service and partnering agencies will be performed by Forest Service staff in the Washington Office and by scientists in one or more of the agency's research stations.

Estimate of Annual Burden: 9 minutes (average).

Type of Respondents: Visitors to lands and waters managed by the US Forest Service.

Estimated Annual Number of Respondents: 45,000.

Estimated Annual Number of Responses per Respondent: One.

Estimated Total Annual Burden on Respondents: 6,400 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Allen Rowley,
Associate Deputy Chief, National Forest System.

[FR Doc. 2020-18305 Filed 8-19-20; 8:45 am]

BILLING CODE 3411-15-P